DEPARTMENT OF COMMERCE

National Oceanic and Atmospheric Administration

50 CFR Parts 300, 679, and 680

[Docket No. 210929-0201]

RIN 0648-BK76

Fisheries of the Exclusive Economic Zone Off Alaska; Regulatory Amendment To Remove GOA Sablefish IFQ Pot Gear Tags and Notary Certification Requirements

AGENCY: National Marine Fisheries Service (NMFS), National Oceanic and Atmospheric Administration (NOAA), Commerce.

ACTION: Proposed rule; request for comments.

SUMMARY: NMFS issues a proposed rule to modify recordkeeping and reporting requirements to remove pot gear tag requirements in the sablefish Individual Fishing Quota (IFQ) fishery in the Gulf of Alaska (GOA) and remove requirements to obtain and submit a notary certification on various programs' application forms. This action is intended to reduce administrative burden on the regulated fishing industry and the National Marine Fisheries Service (NMFS). This action promotes the goals and objectives of the Magnuson-Stevens Fishery Conservation and Management Act (Magnuson-Stevens Act), the Halibut Act, fishery management plans (FMPs), and other applicable laws.

DATES: Submit comments on or before November 5, 2021.

ADDRESSES: You may submit comments on this document, identified by NOAA-NMFS-2021-0084, by any of the following methods:

• Electronic Submission: Submit all electronic public comments via the Federal e-Rulemaking Portal. Go to https://www.regulations.gov and enter NOAA-NMFS-2021-0084 in the Search box. Click on the “Comment” icon, complete the required fields, and enter or attach your comments.

• Mail: Submit written comments to Glenn Merrill, Assistant Regional Administrator, Sustainable Fisheries Division, Alaska Region NMFS. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Electronic copies of the Regulatory Impact Review (referred to as the Analysis) and Categorical Exclusion prepared for this action are available from www.regulations.gov or from the NMFS Alaska Region website at https://www.fisheries.noaa.gov/region/alaska.

Written comments regarding the burden-hour estimates or other aspects of the collection-of-information requirements contained in this proposed rule may be submitted to NMFS at the above address and to www.reginfo.gov/public/do/PRAMain. Find this particular information collection by selecting “Currently under 30-day Review—Open for Public Comments” or by using the search function.”

FOR FURTHER INFORMATION CONTACT: Alicia M Miller at 907-586-7228 or Alicia.m.miller@noaa.gov.

SUPPLEMENTARY INFORMATION:

Authority for Action

NMFS manages the groundfish fisheries in the U.S. exclusive economic zone (U.S. EEZ) off Alaska under the FMP for Groundfish of the GOA (GOA FMP), and the FMP for Groundfish of the Bering Sea and Aleutian Islands (BSAI) Management Area (BSAI FMP). NMFS manages the king and Tanner crab fisheries in the U.S. EEZ of the FMP for BSAI King and Tanner Crabs (Crab FMP).

The North Pacific Fishery Management Council (Council) prepared, and NMFS approved, the BSAI FMP, the GOA FMP, and the Crab FMP under the authority of the Magnuson-Stevens Act, 16 U.S.C. 1801 et seq. Regulations governing and implementing the BSAI and GOA FMPs appear at 50 CFR parts 600 and 679. Regulations governing and implementing the Crab FMP appear at 50 CFR parts 600 and 680.

The International Pacific Halibut Commission (IPHC) and NMFS manage fishing for Pacific halibut (Hippoglossus stenolepis) through regulations at 50 CFR part 300, subpart E, established under authority of the Northern Pacific Halibut Act of 1982 (Halibut Act), 16 U.S.C. 773-773k. Throughout the remainder of this preamble, Pacific halibut is referred to as halibut. The IPHC adopts annual management measures governing fishing for halibut under the Convention between the United States and Canada for the Preservation of the Halibut Fishery of the North Pacific Ocean and Bering Sea (Convention), signed at Ottawa, Ontario, on March 2, 1953, as amended by a Protocol Amending the Convention (signed at Washington, DC, on March 29, 1979). The IPHC regulations are subject to acceptance by the Secretary of State with concurrence from the Secretary of Commerce (Secretary). After acceptance by the Secretary of State and the Secretary, NMFS publishes the annual management measures in the Federal Register pursuant to 50 CFR 300.62. The Halibut Act, at section 773c(c), also authorizes the Council to develop halibut fishery regulations, including limited access regulations, that are in addition to, and not in conflict with, approved IPHC regulations.

Background

In April 2021, the Council requested NMFS propose regulations to remove the requirement to obtain a notary certification on IFQ Program application forms, as well as to remove the requirements for sablefish IFQ fishermen using longline pot gear in the GOA to annually register their vessel to participate in this fishery and obtain and mark their gear with pot gear tags. This proposed rule would modify recordkeeping and reporting requirements to remove pot gear tag requirements in the sablefish IFQ fishery in the GOA and remove requirements to obtain and submit a notary certification on application forms submitted under the halibut and sablefish IFQ Program, Charter Halibut Limited Access Program (CHLAP), Community Quota Entity (CQE) Program, License Limitation Program (LLP), and the Crab Rationalization (CR) Program. The primary purpose for requiring a notary certification was to prevent fraud and forgery by requiring the personal presence of the signer and satisfactorily identifying the signer. The Council determined, and NMFS agrees, that this requirement is unnecessary and administratively burdensome on the fleet and NMFS alike.

The following sections of this preamble describe (1) background information on the IFQ Program, CQE Program, CHLAP, LLP, and the CR Program, (2) the need for this proposed rule, (3) the impacts of this proposed rule, and (4) the specific provisions that would be implemented by this proposed rule.

Individual Fishing Quota Program

The commercial sablefish fisheries in the GOA and the BSAI are managed primarily under the IFQ Program. The Council and NMFS designed the IFQ Program to allocate harvest privileges among participants in the hook-and-line fishery to reduce fishing capacity that had led to an unsafe “race for fish” as vessels raced to harvest their allocation of the annual total allowable catch (TAC) of sablefish as quickly as possible before the TAC was reached. The IFQ Program design and subsequent amendments were intended to support the social and economic character of the fisheries and the coastal fishing communities where many of these fisheries are based. NMFS also allocates a small portion of the annual sablefish TAC to vessels using trawl gear. The trawl sablefish fishery is not managed under the IFQ Program, and this proposed rule does not modify regulations applicable to the trawl sablefish fishery.

The commercial halibut fisheries in the GOA and the BSAI are also managed under the IFQ Program. The halibut fisheries experienced overcapacity and short fishing seasons similar to the sablefish fisheries. In addition, many fishermen participate in both fisheries because the species overlap in some fishing areas and may be harvested simultaneously.

The IFQ Program was implemented in 1995 (58 FR 59375, November 9, 1993). Under the IFQ Program, access to the non-trawl sablefish and halibut fisheries is limited to those persons holding quota shares. NMFS issued separate quota shares for sablefish and halibut to qualified applicants based on their historical participation during a set of qualifying years in the sablefish and halibut fisheries. A quota share is an exclusive, revocable privilege that allows the holder to harvest a specific percentage of either the TAC in the sablefish fishery or the annual commercial catch limit in the halibut fishery. In addition to being specific to sablefish or halibut, quota shares are designated for specific geographic harvest areas, a specific vessel operation type (catcher vessel or catcher/processor), and for a specific range of vessel sizes that may be used to harvest the sablefish or halibut (vessel category).

Quota share allocation is given effect on an annual basis through the issuance of an IFQ permit. An annual IFQ permit authorizes the permit holder to harvest a specified amount of an IFQ species in an IFQ regulatory area from a specific operation type and vessel category. IFQ is expressed in pounds and is based on the amount of quota share held in relation to the total quota share pool for each IFQ regulatory area with an assigned catch limit. Section 3.1 of the Analysis (see ADDRESSES) provides additional information on the IFQ Program.

NMFS authorized the use of longline pot gear in the sablefish IFQ fishery in the GOA under Amendment 101 to the GOA FMP (81 FR 95435, December 28, 2016). Under Amendment 101, NMFS also authorized the retention of halibut IFQ when using longline pot gear to harvest sablefish IFQ in the GOA. Under Amendment 101, NMFS implemented limits on the number of pots that could be used and required the use of pot gear tags. The pot gear tag requirements were intended to facilitate at-sea monitoring and enforcement of the pot limits. Under regulations implementing Amendment 101, a vessel operator using longline pot gear in the GOA sablefish IFQ fishery must annually request pot gear tags from NMFS by submitting a complete IFQ Sablefish Longline Pot Gear: Vessel Registration and Request for Pot Gear Tags form, available on the NMFS Alaska Region website at https://www.fisheries.noaa.gov/region/alaska. NMFS then issues the number of requested pot gear tags up to the pot limit authorized at § 679.42(l)(5)(ii) in a sablefish regulatory area.

Regulations require a notary certification for NMFS to approve the following transactions under the IFQ Program: (1) Transfer of QS; (2) Temporary Transfer of IFQ; (3) Temporary Military IFQ transfer; (4) QS transfer to a Recreational Quota Entity (RQE); (5) QS transfer to a CQE; (6) Application to establish an RQE; and (7) Application to establish a CQE. The following sections briefly describe those programs, which have not been discussed previously in this preamble.

Community Quota Entity Program

The Council developed the CQE Program to improve the ability for rural coastal communities to maintain long-term opportunities to access the halibut and sablefish resources. The Council recommended the CQE Program in the GOA as an amendment to the IFQ Program in 2002, and NMFS implemented the program in 2004 (69 FR 23681, April 30, 2004).

The CQE Program allows small, remote, coastal communities listed in Table 21 to Part 679 in the GOA to purchase and hold catcher vessel halibut QS in IPHC regulatory Areas 2C, 3A, and 3B, and catcher vessel sablefish QS in the GOA. Communities eligible to participate in the CQE Program in the GOA include those that meet criteria for geographic location, population size, and historic participation in the halibut and sablefish fisheries. Additional detail on the CQE Program is available in Section 3.2 of the Analysis (See ADDRESSES).

Participating communities are represented by a CQE, which is a NMFS-approved non-profit organization. The CQE holds QS and leases the IFQ derived from the underlying QS to community residents. To participate in this program, an eligible community must designate a CQE to represent it through the submission of an application to NMFS for a nonprofit corporation to be designated as a CQE. Regulations at 50 CFR 679.41(l) require a notary certification on this application form.

Charter Halibut Limited Access Program

The Council and NMFS developed specific management programs for the charter halibut fishery to achieve allocation and conservation objectives. These management programs maintain stability and economic viability in the charter fishery by (1) limiting the number of charter vessel operators, (2) allocating halibut to the charter fishery that varies with abundance, and (3) establishing a process for determining harvest restrictions for charter vessel anglers to keep the charter halibut fishery harvest within its allocations.

The charter fisheries in IPHC regulatory Areas 2C and 3A are currently managed under the CHLAP and the Catch Sharing Plan (CSP). The CHLAP limits the number of operators in the charter fishery, while the CSP establishes annual allocations to the charter and commercial fisheries and describes a process for determining annual management measures to limit charter harvest to the allocations in each IPHC regulatory area.

The CHLAP established Federal charter halibut permits (CHPs) for operators in the charter halibut fisheries in Areas 2C and 3A (75 FR 554, January 5, 2010). Since 2011, all vessel operators in Areas 2C and 3A with charter anglers on board must have an original, valid CHP on board during every charter vessel fishing trip on which halibut are caught and retained. CHPs are endorsed for the applicable IFQ regulatory area and the number of charter anglers that may catch and retain halibut on a trip.

Several requirements must be met to receive a CHP. They included: (1) A timely application for a permit; (2) documentation of participation in the charter vessel fishery during the qualifying and recent participation periods by Alaska Department of Fish and Game (ADF&G) logbooks; and (3) ownership of a business that was licensed by ADF&G to conduct the guided sport fishing that was reported in the logbooks. Licensed business owners that qualified for CHPs included individuals, corporations, firms, and associations (50 CFR 300.61). NMFS issued both transferable and nontransferable CHPs, depending on specific qualifying criteria detailed in the final rule implementing the CHLAP (75 FR 554, January 5, 2010).

Effective December 20, 2019, implemented regulations also require CHPs to be registered annually with NMFS before they are used (84 FR 64023, November 20, 2019). The annual registration of CHPs is intended to improve the enforcement of CHP transfer limitations and ownership caps, as well as provide additional information to NMFS and the Council on any changes in CHP ownership, leasing, and participation. Regulations at 50 CFR 300.67(i)(4) require a notary certification on a CHP transfer application form.

License Limitation Program

In 1998, the Secretary implemented the LLP to place an upper limit on the number of vessels that could be deployed in the crab and groundfish (other than sablefish) fisheries off Alaska. The LLP was originally intended to address concerns that the harvesting fleet had expanded beyond the size necessary to harvest efficiently the optimum yield of the fisheries off Alaska. The LLP established several exemptions from the requirement that a vessel be named on an LLP license, including an exemption for small vessels. The LLP was established by Amendment 39 to the BSAI FMP, Amendment 41 to the GOA FMP, and Amendment 5 to the Crab FMP, which were implemented by NMFS on October 1, 1998 (63 FR 52642). Additional information about the LLP can be found in the preamble to the proposed rule for these amendments (62 FR 43866, August 15, 1997).

As of January 1, 2000, an LLP license is required for vessels participating in directed fishing for LLP groundfish species in the GOA or BSAI, fishing for commercial scallops in the GOA or BSAI, or fishing in any BSAI LLP crab fishery. A vessel must be named on an LLP license and that LLP license must be on board the vessel. The LLP is authorized in Federal regulations at 50 CFR 679.4(k), definitions relevant to the program are at 679.2, and prohibitions are at 679.7.

The LLP license requirement is in addition to all other permits or licenses required by Federal regulations. The LLP is a Federal program and LLP licenses are not required for participation in fisheries that occur in the waters of the State of Alaska.

Permanent LLP licenses are transferable, and the vessel named on the LLP license may also be changed. Transfer applications are available online and from the NMFS Restricted Access Management Program. To be effective, an application for such transfers must be submitted to and approved by NMFS. Additional information about the LLP Program and transfer limitations is included in Section 3.5 of the Analysis (See ADDRESSES).

Regulations at 50 CFR 679. 4(k)(7)(iii) require a notary certification on an application for the transfer of LLP licenses.

Crab Rationalization Program

The CR Program was implemented on April 1, 2005 (70 FR 10174, March 2, 2005). The CR Program established a limited access program for nine crab fisheries in the BSAI and assigned QS to persons based on their historic participation in one or more of those nine BSAI crab fisheries during a specific period. Each year, a person who holds QS may receive an exclusive harvest privilege for a portion of the annual TAC. NMFS also issues processor quota share (PQS) under the CR Program. Each year, PQS yields an exclusive privilege to process a portion of IFQ in each of the nine BSAI CR crab fisheries. This annual exclusive processing privilege is called individual processor quota (IPQ). Only a portion of the QS issued yields IFQ that is required to be delivered to a processor with IPQ. Each year there is a one-to-one match between the total pounds of IFQ that must be delivered to a processor with IPQ with and the total pounds of IPQ issued in each CR crab fishery.

Administration of the CR Program requires the submission of information to NMFS for a variety of purposes, including annual formation of cooperatives and the transfer of QS, PQS, IFQ, and IPQ privileges. Regulations require a notary certification on five CR Program application forms: (1) Application for Transfer of Crab PQS; (2) Application for Transfer of Crab QS; (3) Application to Become an Eligible Crab Community Organization (ECCO); (4) Application for Transfer of Crab QS/IFQ to or from an ECCO; and (5) Application for CR Program Eligibility to Receive QS/PQS or IFQ/IPQ by Transfer. Additionally, the BSAI CR Program QS Beneficiary Designation Form requires a notary certification, but this requirement is not explicitly stated in regulation.

Need for This Proposed Rule

The purpose of this proposed action is to remove recordkeeping and reporting requirements that are no longer necessary. This action is intended to reduce administrative burden on the regulated fishing industry and NMFS by making two types of revisions to Federal regulations. First, this proposed rule would remove regulations requiring the use of pot gear tags in the longline pot gear sablefish IFQ fishery in the GOA. Second, this proposed rule would remove notary certification requirements for several application forms submitted to NMFS.

Impacts of This Proposed Rule

Pot Gear Tags

This proposed rule would remove a requirement that all pots deployed in GOA sablefish areas have a pot gear tag that is (1) issued by NMFS and (2) assigned by NMFS to a vessel that is licensed by the State of Alaska. Regulations requiring a vessel owner to request and receive pot gear tags by submitting an application to NMFS would be removed. NMFS would no longer administer issuance of pot gear tags to vessel owners. Vessel owners would no longer be required to submit an application to NMFS for the purpose of assigning pot gear tags to the gear used by that vessel, and vessel operators would no longer be required to track individual pot gear tags marked with a unique identifier that are assigned to their vessel.

Pot gear tags have proven to be an impractical and ineffective at-sea enforcement tool for the purpose of enforcing pot limits implemented under Amendment 101 to the GOA FMP. During an at-sea boarding, an enforcement officer would need to be able to visually inspect each pot being used by that vessel during a single boarding to ensure that every pot was marked with the appropriate tag, that the tags were all appropriately assigned to the vessel using them, and that the total number of pots did not exceed the area specific limit. Because an at-sea boarding typically occurs while a vessel is actively fishing, the total amount of gear being used by the vessel is typically not available to the boarding officer. At any given time, some gear may be on the deck of the vessel while other pots are located at the bottom of the ocean or stored on land. Other provisions implemented under GOA Amendment 101 including the daily fishing logbook (DFL), the prior notice of landing (PNOL), and from a Vessel Monitoring System unit onboard the vessel remain in effect and are sufficient for enforcement purposes. Section 4.3 of the Analysis (See ADDRESSES) provides additional information about the management and enforcement considerations of this proposed action.

Notary Certification

This proposed rule would remove requirements to obtain and submit a notary certification on NMFS application forms. All application forms submitted to NMFS would continue to include a certification attesting to agreement with a statement that the information submitted on the application form is true, correct, and complete. This certification is sufficient to deter fraud and forgery, and to adequately enforce fraud and forgery should it occur. In addition, NMFS has identified that the requirement for notary certification is not consistently applied on all applications forms used by NMFS, and fraud and forgery have not been identified as significant concerns. This proposed rule would remove a requirement that is not necessary to enforce or deter fraud and forgery and is consistent with other application forms that NMFS administers.

This proposed rule would modify regulations applicable to the halibut and sablefish IFQ Program, CHLAP, CQE Program, LLP, and the CR Program. The following application forms would be revised to remove the notary certification.

IFQ Program:

• Application for Eligibility to Receive QS/IFQ;

• Application for Transfer of QS;

• Application for Temporary Transfer of Halibut/Sablefish Individual Fishing Quota (IFQ) (this includes: Category A IFQ transfer, surviving beneficiary, Temporary military transfer, and IFQ transfer to CDQ groups during year of low halibut abundance);

• Application for a Non-profit Corporation to be Designated as a Recreational Quota Entity (RQE); and

• Application for Transfer Of Quota Share To Or From A Recreational Quota Entity (RQE).

CQE Program:

• Application for a Non-profit Corporation to be Designated as a Community Quota Entity (CQE); and

• Application for Transfer of Quota Share to or From A Community Quota Entity (CQE).

CHLAP:

Application for Transfer Of Charter Halibut Permit (CHP).

LLP:

Application for Transfer License Limitation Program Groundfish/Crab License.

Crab:

• Application for Transfer of Crab Quota Share (QS);

• Application for Transfer of Crab Processor Quota Share (PQS);

• Application to Become An Eligible Crab Community Organization (ECCO);

• Application for Transfer of Crab QS/IFQ to or from an Eligible Crab Community Organization (ECCO); and

• BSAI Crab Rationalization Program Quota Share (QS) Beneficiary Designation Form.

Proposed Changes to Regulations

This proposed rule would revise regulations at 50 CFR part 300, 50 CFR part 679, and 50 CFR part 680 to (1) to remove pot gear tag requirements in the sablefish IFQ fishery in the GOA and (2) remove requirements to obtain and submit a notary certification on application forms. This section describes the proposed changes to current regulations.

Pot Gear Tags

This proposed rule would revise §§ 679.7(f)(18) and (19), and 679.42(l)(2) through (l)(5), to remove regulations governing the requirements to request and use pot gear tags when using longline pot gear in the GOA sablefish IFQ fishery.

Notary Certification

This proposed rule would revise §§ 300.67, 679.4, 679.41, and 680.41 to remove requirements to obtain and submit a notary certification on application forms submitted under the IFQ Program, CHLAP, CQE Program, LLP, and CR Program.

This proposed rule would revise § 300.67(i)(4) to remove the requirement to obtain a notary certification on an application to transfer a CHP.

This proposed rule would revise § 679.4(k)(7)(iii) to remove the requirement to obtain a notary certification on an application for transfer of a groundfish or crab LLP.

This proposed rule would revise §§ 679.41(c)(3), 679.41(l)(3)(iii)(D), 679.41(m)(3)(v), and 679.41(n)(2)(iii)(D) to remove requirements to obtain a notary certification on the following IFQ Program and CQE Program Application forms:

• Application for Transfer of QS;

• Application for Temporary Transfer of Halibut/Sablefish Individual Fishing Quota (IFQ) (This includes: Category A IFQ transfer, surviving beneficiary, Temporary military transfer, and IFQ transfer to CDQ groups during year of low halibut abundance.);

• Application for a Non-profit Corporation to be Designated as a Recreational Quota Entity (RQE);

• Application for Transfer Of Quota Share To Or From A Recreational Quota Entity (RQE);

• Application for a Non-profit Corporation to be Designated as a Community Quota Entity (CQE); and

• Application for Transfer of Quota Share to or From A Community Quota Entity (CQE).

The application for eligibility to receive QS or IFQ requires an applicant to obtain and submit a notary certification. This requirement is not included in regulations and will be removed from the form.

This proposed rule would revise §§ 680.41(c)(2)(ii)(F)(2), 680.41(i)(2), 680.41(j)(2)(i)(C), and 680.41(k)(3)(ix) to remove requirements to obtain a notary certification on the following CR Program application forms:

• Application for Transfer of Crab Quota Share (QS);

• Application for Transfer of Crab Processor Quota Share (PQS);

• Application to Become An Eligible Crab Community Organization (ECCO);

• Application for Transfer of Crab QS/IFQ to or from an Eligible Crab Community Organization (ECCO); and

• Application for CR Program Eligibility to Receive QS/PQS or IFQ/IPQ by Transfer.

The BSAI CR Program QS beneficiary designation form requires an applicant to obtain and submit a notary certification. This requirement is not included in regulations and will be removed from the form.

This proposed rule also corrects a typographical error in § 680.41(k)(3)(ix)(B)(1) to remove the word “transferor” and replace it with “transferee” consistent with the preceding paragraph heading.

Classification

NMFS is issuing this proposed rule pursuant to section 305(d) of the Magnuson-Stevens Act. Pursuant to MSA section 305(d), this proposed action is necessary to carry out the BSAI FMP, the GOA FMP, and the Crab FMP, because the aforementioned recordkeeping and reporting requirements are no longer necessary to administer the fishery management programs implemented under these FMPs. The NMFS Assistant Administrator has determined that this proposed rule is consistent with the BSAI FMP, the GOA FMP, the Crab FMP, and other applicable law, subject to further consideration after public comment.

Regulations governing the U.S. fisheries for halibut are developed by the IPHC, the Pacific Fishery Management Council, the Council, and the Secretary. Section 5 of the Halibut Act (16 U.S.C. 773c) allows the regional council having authority for a particular geographical area to develop regulations governing the allocation and catch of halibut in U.S. Convention waters, as long as those regulations do not conflict with IPHC regulations. The proposed action is consistent with the Council's authority to allocate halibut catches among fishery participants in the waters in and off Alaska.

This proposed rule has been determined to be not significant for the purposes of Executive Order 12866.

Regulatory Impact Review (RIR)

An RIR was prepared to assess the costs and benefits of available regulatory alternatives. The RIR considers all quantitative and qualitative measures. A copy of this analysis is available from NMFS (see ADDRESSES).

Certification Under the Regulatory Flexibility Act

The Chief Counsel for Regulation of the Department of Commerce certified to the Chief Counsel for Advocacy of the Small Business Administration that this proposed rule, if adopted, would not have a significant economic impact on a substantial number of small entities.

This action would modify recordkeeping and reporting requirements to remove pot gear tag requirements in the sablefish IFQ fishery in the GOA. In addition, this action would remove requirements to obtain and submit a notary certification on application forms and, therein, would modify regulations applicable to the halibut and sablefish IFQ Program, CHLAP, CQE Program, LLP, and the CR Program. Therein, this action would directly regulate vessel operators using longline pot gear to harvest sablefish IFQ in the GOA and other IFQ program participants, CHP holders under the CHLAP, CQE Program participants, LLP license holders, and participants in the CR Program.

This action is expected to reduce costs to IFQ program participants by removing the requirement and associated administrative costs of the pot gear tag program. This action would also reduce the time burden and cost incurred by fishery participants to obtain a notary certification on affected application forms. This action would benefit all affected vessels and program participants by reducing the cost of complying with Federal regulations implementing the affected fishery management programs.

For these reasons, this action is not expected to have an adverse economic impact on a substantial number of small entities. As a result, an initial regulatory flexibility analysis is not required and none has been prepared.

Information Collection Requirements

This proposed rule contains information collection requirements subject to review and approval by the Office of Management and Budget (OMB) under the Paperwork Reduction Act (PRA). NMFS has submitted these requirements to OMB for approval under the following control numbers: 0648-0272 (Alaska Pacific Halibut & Sablefish Fisheries: Individual Fishing Quota (IFQ)); 0648-0334 (Alaska License Limitation Program for Groundfish, Crab, and Scallops); 0648-0353 (Alaska Region Gear Identification Requirements); 0648-0514 (Alaska Region Crab Permits); 0648-0575 (Alaska Pacific Halibut Fisheries: Charter); and 0648-0665 (Alaska Community Quota Entity (CQE) Program).

OMB Control Number 0648-0272

The notary certification is removed from five forms approved under this control number. Subject to public comment, no changes are made to the estimated reporting burdens for these applications as the estimates allow for differences in the time needed to complete and submit the applications. Public reporting burden per individual response is estimated to average 200 hours for the Application for a Non-profit Corporation to be Designated as a Recreational Quota Entity (RQE); and 2 hours each for the Application for Eligibility to Receive QS/IFQ, the Application for Transfer of QS, the Application for Temporary Transfer of Halibut/Sablefish Individual Fishing Quota (IFQ), and the Application For Transfer Of Quota Share To Or From A Recreational Quota Entity (RQE). Removing the notary certification will decrease the cost burden of completing these forms.

OMB Control Number 0648-0334

The notary certification is removed from the Application for Transfer License Limitation Program Groundfish/Crab License. Subject to public comment, no changes are made to the estimated reporting burden for this application as the estimate allows for differences in the time needed to complete and submit the application. Public reporting burden per individual response is estimated to average 1 hour. Removing the notary certification will decrease the cost burden of completing this form.

OMB Control Number 0648-0514

The notary certification is removed from five forms approved under this control number. Subject to public comment, no changes are made to the estimated reporting burdens for these applications as the estimates allow for differences in the time needed to complete and submit the applications. Public reporting burden per individual response is estimated to average 2.5 hours for the Application to Become An Eligible Crab Community Organization (ECCO); 2 hours each for the Application for Transfer of Crab Quota Share (QS), Application for Transfer of Crab Processor Quota Share (PQS), Application for Transfer of Crab QS/IFQ to or from an Eligible Crab Community Organization (ECCO); and 30 minutes for the BSAI Crab Rationalization Program Quota Share (QS) Beneficiary Designation Form. Removing the notary certification will decrease the cost burden of completing these forms.

OMB Control Number 0648-0575

The notary certification is removed from the Application for Transfer Of Charter Halibut Permit (CHP). Subject to public comment, no changes are made to the estimated reporting burden for this application as the estimate allows for differences in the time needed to complete and submit the application. Public reporting burden per individual response is estimated to average 2 hours. Removing the notary certification will decrease the cost burden of completing this form.

OMB Control Number 0648-0353

This collection is revised to remove two forms associated with pot gear tags: (1) IFQ Sablefish Longline Pot Gear: Vessel Registration and Request for Pot Gear Tags; and (2) IFQ Sablefish Request for Replacement of Longline Pot Gear Tags. These forms are no longer necessary because vessel owners participating in the longline pot gear sablefish IFQ fishery in the GOA would no longer be required to register their vessel or use pot gear tags. Removing these requirements decreases the time burden and cost to participants in this fishery.

OMB Control Number 0648-0665

This rule proposes to revise and extend by three years OMB Control Number 0648-0665. This collection contains the application used by a non-profit entity to be designated as a CQE and contains the applications and reports submitted by CQEs to apply for a CHP permit or LLP license; transfer IFQ, quota share, or guided angler fish; and report and manage their fishing activities. This collection is necessary for NMFS to manage the CQE Program.

Due to this rule, this collection is revised to remove the notary certification from the Application for a Non-profit Corporation to be Designated as a Community Quota Entity (CQE) and the Application for Transfer of Quota Share to or From A Community Quota Entity (CQE). Subject to public comment, no changes are made to the estimated reporting burdens for these applications as the estimates allow for differences in the time needed to complete and submit the applications. Removing the notary certification will decrease the cost burden of completing these forms.

The estimated number of respondents for this collection is 94; the estimated total annual burden hours are 1,620 hours; and the estimated total annual cost to the public for recordkeeping and reporting costs is $895.

Public reporting burden per individual response is estimated to average 200 hours for the Application for Nonprofit Corporation to be Designated as a CQE; 40 hours for the CQE Annual Report; 20 hours for the Application for a CQE to Receive a Non-trawl Groundfish LLP License; 2 hours each for the Application for Transfer of Quota Share to or from a Community Quota Entity, the Application for a CQE to Transfer IFQ to an Eligible Community Resident or Non-resident, and the Application for Transfer (Lease) Between IFQ and Guided Angler Fish by a Community Quota Entity (CQE); and 1 hour each for the CQE License Limitation Program Authorization letter and the Application for Community Charter Halibut Permit.

Public Comment

Public comment is sought regarding whether these proposed information collection requirements are necessary for the proper performance of the functions of NMFS, including whether the information shall have practical utility; the accuracy of the burden estimate; ways to enhance the quality, utility, and clarity of the information to be collected; and ways to minimize the burden of the collection of information, including through the use of automated collection techniques or other forms of information technology. Send comments on these or any other aspects of the collection of information to NMFS Alaska Region (see ADDRESSES), or to the Office of Information and Regulatory Affairs (OIRA) by visiting www.reginfo.gov/public/do/PRAMain. Find the particular information collection by selecting “Currently under Review—Open for Public Comments” or by using the search function.

Notwithstanding any other provision of the law, no person is required to respond to, nor shall any person be subject to penalty for failure to comply with, a collection of information subject to the requirement of the PRA, unless that collection of information displays a currently valid OMB control number. All currently approved NOAA collections of information may be viewed at https://www.reginfo.gov/public/do/PRASearch.

List of Subjects

50 CFR Part 300

Administrative practice and procedure, Antarctica, Canada, Exports, Fish, Fisheries, Fishing, Imports, Indians, Labeling, Marine resources, Reporting and recordkeeping requirements, Russian Federation, Transportation, Treaties, Wildlife.

50 CFR Part 679

Alaska, Fisheries, Reporting and recordkeeping requirements.

50 CFR Part 680

Alaska, Fisheries, Reporting and recordkeeping requirements.

Dated: September 30, 2021.
Samuel D. Rauch, III,
Deputy Assistant Administrator for Regulatory Programs, National Marine Fisheries Service.

For the reasons set out in the preamble, 50 CFR parts 300, 679, and 680 are proposed to be amended as follows:

PART 300—INTERNATIONAL FISHERIES REGULATIONS

Subpart E—Pacific Halibut Fisheries

1. The authority citation for part 300, subpart E, continues to read as follows:

Authority: 16 U.S.C. 773-773k.

2. In § 300.67, remove the phrase “notarized and” from the first sentence in paragraph (i)(4).

PART 679—FISHERIES OF THE EXCLUSIVE ECONOMIC ZONE OFF ALASKA

3. The authority citation for part 679 continues to read as follows:

Authority: 16 U.S.C. 773 et seq.; 1801 et seq.; 3631 et seq.; Pub. L. 108-447; Pub. L. 111-281.

4. In § 679.4, remove the phrase “notarized and” from the first sentence in paragraph (k)(7)(iii).

5. In § 679.7, remove and reserve paragraphs (f)(18)(ii), and (f)(19)

6. In § 679.41, remove the word “notarized” from paragraph (c)(3), remove paragraph (m)(3)(vi), and revise paragraphs (l)(3)(iii)(D), and (n)(2)(iii)(D) to read as follows:

§ 679.41 Transfer of quota shares and IFQ.

* * * * *

(l) * * *

(3) * * *

(iii) * * *

(D) The name of the non-profit organization, taxpayer ID number, NMFS person number, permanent business mailing addresses, name of contact persons and additional contact information of the managing personnel for the non-profit entity, resumes of management personnel, name of community or communities represented by the CQE, name of contact for the governing body of each community represented, date, name and signature of applicant.

* * * * *

(n) * * *

(2) * * *

(iii) * * *

(D) The name of the non-profit organization, taxpayer ID number, NMFS person number, permanent business mailing addresses, name of contact persons and additional contact information of the managing personnel for the non-profit entity, resumes of management personnel, name and signature of applicant; and

* * * * *

7. In § 679.42, remove and reserve paragraphs (l)(2)(i), (ii), (l)(3), and (l)(4), and revise paragraph (l)(5)(iv) to read as follows:

§ 679.42 Limitations on use of QS and IFQ.

* * * * *

(l) * * *

(5) * * *

(iv) Longline pot gear used on multiple vessels. Longline pot gear assigned to one vessel and deployed to fish IFQ sablefish in the GOA must be removed from the fishing grounds, and returned to port before being deployed by another vessel to fish IFQ sablefish in the GOA.

* * * * *

PART 680—SHELLFISH FISHERIES OF THE EXCLUSIVE ECONOMIC ZONE OFF ALASKA

8. The authority citation for part 680 continues to read as follows:

Authority: 16 U.S.C. 1862; Pub. L. 109-241; Pub. L. 109-479.

9. In § 680.41, remove and reserve paragraphs (c)(2)(ii)(F)(2), (j)(2)(i)(C)(2), (k)(3)(ix)(A)(2), (B)(2), and (C)(2), remove the phrase “original notarized” from paragraphs (i)(2), remove the word “notarized” from paragraph (j)(2)(i)(C), remove the word “transferor” and replace it with “transferee” in paragraph (k)(3)(ix)(B)(1), and revise paragraph (k)(3)(ix) heading to read as follows:

§ 680.41 Transfer of QS, PQS, IFQ and IPQ.

* * * * *

(k) * * *

(3) * * *

(ix) Certification information—

* * * * *

[FR Doc. 2021-21721 Filed 10-5-21; 8:45 am]

BILLING CODE 3510-22-P